DEPARTMENT OF HEALTH AND HUMAN SERVICES

National Institutes of Health

Government-Owned Inventions; Availability for Licensing

AGENCY: National Institutes of Health, HHS.

ACTION: Notice.

SUMMARY: The invention listed below is owned by an agency of the U.S. Government and is available for licensing to achieve expeditious commercialization of results of federally-funded research and development. Foreign patent applications are filed on selected inventions to extend market coverage for companies and may also be available for licensing.

FOR FURTHER INFORMATION CONTACT: Licensing information and copies of the patent applications listed below may be obtained by communicating with the indicated licensing contact at the Technology Transfer and Intellectual Property Office, National Institute of Allergy and Infectious Diseases, 5601 Fishers Lane, Rockville, MD 20852; tel. 301-496-2644. A signed Confidential Disclosure Agreement will be required to receive copies of unpublished patent applications.

SUPPLEMENTARY INFORMATION: Technology description follows.

Monoclonal Antibodies That Neutralize Norovirus

Description of Technology: Vaccines and therapies to prevent and treat Norovirus infections do not exist, despite the worldwide prevalence of Norovirus infections. Outbreaks of human gastroenteritis attributable to Norovirus commonly occur in group setting, such as hospitals, nursing homes, schools, dormitories, cruise ships and military barracks. This technology relates to chimpanzee-human chimeric monoclonal antibodies, which specifically bind to Norovirus and have therapeutic potential. The antibodies that were tested in a primate model of infection have shown protection against Norovirus. These Norovirus antibodies may have application as immunoprophylaxis to protect individuals from infections or as a possible treatment for infected individuals, or can be used to develop a diagnostic for detection of norovirus infections.

This technology is available for licensing for commercial development in accordance with 35 U.S.C. 209 and 37 CFR part 404, as well as for further development and evaluation under a research collaboration.

Potential Commercial Applications:

• Therapeutics

• Diagnostics

Competitive Advantages:

• There are currently no vaccines or therapeutics available against Norovirus infections

Development Stage:

• In vivo data available (animal)

Inventors: Zhaochun Chen, Robert H. Purcell, Lisbeth Kim Green, Stanislav Sosnovtsev, Karin Bok (all from NIAID).

Publications: Chen Z, et al., Development of Norwalk virus-specific monoclonal antibodies with therapeutic potential for the treatment of Norwalk virus gastroenteritis, J Virol. 2013 Sep; 87(17):9547-57. [PMID 23785216].

Intellectual Property: HHS Reference No. E-226-2011/0—U.S. Provisional Application No. 61/763,879, filed February 12, 2013; PCT Application No. PCT/US2014/015809, filed February 11, 2014; European Application No. 14706239.2, filed August 5, 2015 (pending); U.S. Application No. 14/767,274, filed August 11, 2015 (allowed); and U.S. Application No. 15/359,438, filed November 22, 2016 (pending).

Licensing Contact: Dr. Jenish Patel, 240-669-2894; Jenish.Patel@nih.gov.

Collaborative Research Opportunity: The National Institute of Allergy and Infectious Diseases is seeking statements of capability or interest from parties interested in collaborative research to further develop, evaluate or commercialize for development of a therapeutic or a diagnostic for Norovirus infections. For collaboration opportunities, please contact Dr. Jenish Patel, 240-669-2894; Jenish.Patel@nih.gov.

Dated: January 9, 2017.
Suzanne Frisbie,
Deputy Director, Technology Transfer and Intellectual Property Office, National Institute of Allergy and Infectious Diseases.

[FR Doc. 2017-00735 Filed 1-12-17; 8:45 am]

BILLING CODE 4140-01-P